DEPARTMENT OF COMMERCE

National Oceanic and Atmospheric Administration

Availability of Seats for the Cordell Bank National Marine Sanctuary Advisory Council

AGENCY: Office of National Marine Sanctuaries (ONMS), National Ocean Service (NOS), National Oceanic and Atmospheric Administration, Department of Commerce (DOC).

ACTION: Notice and request for applications.

SUMMARY: The Office of National Marine Sanctuaries is seeking applicants for the following vacant seats on the Cordell Bank National Marine Sanctuary Advisory Council (Council): Conservation Alternate and Primary, Maritime Activities Alternate and Primary. Applicants are chosen based upon their particular expertise and experience in relation to the seat for which they are applying; community and professional affiliations; philosophy regarding the protection and management of marine resources; and possibly the length of residence in the area affected by the Sanctuary. Applicants who are chosen as members should expect to serve 2-3 year terms, pursuant to the Council's Charter.

DATES: Applications are due by January 30, 2009.

ADDRESSES: Application kits may be obtained on the Cordell Bank Web site at: http://cordellbank.noaa.gov, and from Cordell Bank National Marine Sanctuary, Rowena Forest, P.O. Box 159, Olema, CA 94950. Completed applications should be sent to the above mailing address or faxed to (415) 663-0315.

FOR FURTHER INFORMATION CONTACT: Rowena Forest/CBNMS, Rowena.Forest@noaa.gov, P.O. Box 159, Olema, CA 94950, (415) 663-0314 x105.

SUPPLEMENTARY INFORMATION: The Advisory Council for Cordell Bank was established in 2002 to support the joint management plan review process currently underway for the CBNMS and its neighboring sanctuaries, Gulf of the Farallones and Monterey Bay National Marine Sanctuaries. The Council has members representing education, research, conservation, maritime activity, and community-at-large. The government seats are held by representatives from the National Marine Fisheries Service, the United States Coast Guard, and the managers of the Gulf of the Farallones, Monterey Bay and Channel Islands National Marine Sanctuaries. The Council holds four regular meetings per year, and one annual retreat.

Authority: 16 U.S.C. Sections 1431, et seq.

(Federal Domestic Assistance Catalog Number 11.429 Marine Sanctuary Program)

Dated: November 24, 2008.
Daniel J. Basta,
Director, Office of National Marine Sanctuaries, National Ocean Services, National Oceanic and Atmospheric Administration.

[FR Doc. E8-29035 Filed 12-8-08; 8:45 am]

BILLING CODE 3510-22-M